DEPARTMENT OF THE INTERIOR

National Park Service

Notice of Proposed Award; Temporary Concession Contract for Great Island Cabin and Ferry Service at Cape Lookout National Seashore, NC

AGENCY: National Park Service, Interior.

ACTION: Notice of proposed award of temporary concession contract.

EFFECTIVE DATE: February 1, 2007.

FOR FURTHER INFORMATION CONTACT: Ben Hanslin, Concessions Management Specialist, Southeast Region, National Park Service, 100 Alabama Street, SW., Building 1924, Atlanta, GA 30303 404/562-3108, extension 740.

SUMMARY: Pursuant to 36 CFR part 51, public notice is hereby given that the National Park Service proposes to award a temporary concession contract for continuation of visitor reservations and cabin rental in the Great Island cabin area on South Core Banks (Banks), Cape Lookout National Seashore and ferry service to and from the community of Davis, North Carolina to the Banks for a term not to exceed December 31, 2007.

SUPPLEMENTARY INFORMATION: The temporary concession contract is being awarded to Morris Marina Kabin Kamps and Ferry Service, Inc., a qualified person, as that term is defined in 36 CFR 51.3. Following termination of the prior concession contract at Great Island Camps on December 31, 2004, the National Park Service awarded a temporary concession contract to Morris Marina Kabin Kamps and Ferry Service, Inc., on May 15, 2005, that expires on December 31, 2006. A new concession contract cannot be awarded in time to avoid the interruption of visitor services during the 2007 operating season. The National Park Service has taken all reasonable and necessary steps to consider alternatives to avoid interruption of visitor services, and has determined that this award is necessary to avoid interruption of visitor services.

This action is issued pursuant to 36 CFR 51.24(a). This is not a request for proposals and no prospectus is being issued at this time. The Director intends to issue a prospectus in 2007 to allow the competitive award of a long-term concession contract that will be effective prior to the 2008 season for visitor reservations and cabin rental in the Great Island cabin area on South Core Banks (Banks), Cape Lookout National Seashore and ferry service to and from the community of Davis, North Carolina to the Banks. You may be placed on a mailing list for receiving information regarding the prospectus by sending a written request to the above address.

Dated: February 20, 2007.
Katherine H. Stevenson,
Assistant Director, Business Services.

[FR Doc. 07-1051 Filed 3-6-07; 8:45 am]

BILLING CODE 4312-53-M